DEPARTMENT OF COMMERCE

National Oceanic and Atmospheric Administration

50 CFR Part 660

[Docket number 070718330-7330-02; I.D. 022807F]

RIN 0648-AU73

Fisheries Off West Coast States; Highly Migratory Species Fisheries

AGENCY: National Marine Fisheries Service (NMFS), National Oceanic and Atmospheric Administration (NOAA), Commerce.

ACTION: Final rule.

SUMMARY: NMFS issues a final rule to amend vessel identification regulations of the Fishery Management Plan (FMP) for U.S. West Coast Fisheries for Highly Migratory Species (HMS). The current regulatory text requires all commercial fishing vessels and recreational charter vessels fishing under the HMS FMP to display their official numbers on the port and starboard sides of the deckhouse or hull, and on an appropriate weather deck (horizontal or flat surface) so as to be visible from enforcement vessels and aircraft. The final rule exempts HMS recreational charter vessels from complying with the vessel identification requirements. The regulation is intended to relieve a restriction for which the costs outweigh the benefits. Current state and Federal (U.S. Coast Guard) marking requirements are sufficient for law enforcement personnel to adequately identify HMS recreational charter vessels at-sea and the added burden to vessel owners of additional vessel marking requirements was deemed unnecessary.

DATES: This final rule is effective September 5, 2007.

FOR FURTHER INFORMATION CONTACT: Craig Heberer, Sustainable Fisheries Division, NMFS, 760-431-9440, ext. 303.

ADDRESSES: Rodney R. McInnis, Regional Administrator, Southwest Region, NMFS, 501 West Ocean Blvd., Suite 4200, Long Beach, CA 90802 4213.

SUPPLEMENTARY INFORMATION: On April 7, 2004, NMFS published a final rule to implement the HMS FMP (69 FR 18444) that included regulatory text at 50 CFR 660.704 requiring display of vessel identification markings for commercial fishing vessels and recreational charter fishing vessels that fish for HMS off, or land HMS into ports of, the States of California, Oregon, and Washington. The identification markings are consistent in size, shape, and location with vessel identification markings required on commercial fishing vessels operating under the Pacific Fishery Management Council's (Council) Groundfish FMP. The marking requirements at 50 CFR 660.704(b) state that the official number must be affixed to each vessel in block Arabic numerals at least 10 inches (25.40 cm) in height for vessels more than 25 ft (7.62 m) but equal to or less than 65 ft (19.81 m) in length; and 18 inches (45.72 cm) in height for vessels longer than 65 ft (19.81 m) in length. Markings must be legible and of a color that contrasts with the background.

The inclusion of HMS recreational charter vessels as part of the vessel identification requirements in the HMS FMP is not consistent with how vessel marking requirements are applied in the Groundfish FMP. This final rule exempts HMS recreational charter vessels from the marking requirements at 50 CFR 660.704(b), similar to exemptions granted under the Groundfish FMP. Additional information on the Council's recommendation to exempt HMS recreational charter vessels is contained in the proposed rule (72 FR 19453) for this action and will not be repeated here.

Comments and Responses

During the comment period for the proposed rule, NMFS received two comments.

Comment 1: A Washington State HMS recreational charter boat owner/operator wrote in favor of the proposed rule based on his opinion that current state and federal marking requirements are more than adequate to properly identify the HMS recreational charter fleet. He recommended adoption of the proposed vessel marking exemption without modification.

Response: NMFS agrees with the premise that HMS charter recreational vessels are adequately marked under existing state and federal marking requirements. Providing this exemption to the existing marking requirements would not impede law enforcement personnel in properly identifying HMS recreational charter vessels.

Comment 2: A licensed boat captain from Alaska wrote against the proposed exemption based on his presumption that exempting vessel marking requirements would allow unmarked vessels on the ocean thereby hindering law enforcement personnel in properly identifying boats that violate existing laws and regulations.

Response: The HMS recreational charter vessel marking exemption will not repeal applicable state and Federal (e.g., US Coast Guard) marking requirements already in place. The exemption is a repeal of additional HMS FMP marking requirements that are not necessary for enforcement.

Classification

NMFS has determined that the final rule is consistent with the HMS FMP and is consistent with the Magnuson-Stevens Fishery Conservation and Management Act and other applicable laws.

The final rule has been determined to be not significant for purposes of Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification or the economic impact of the rule. As a result, a regulatory flexibility analysis was not required and none was prepared.

List of Subjects in 50 CFR Part 660

Fisheries, Fishing, Reporting and recordkeeping requirements.

Dated July 31, 2007.
John Oliver,
Deputy Assistant Administrator for Operations, National Marine Fisheries Service.

For the reasons set out in the preamble, 50 CFR part 660 is amended as follows:

PART 660—FISHERIES OFF THE WEST COAST STATES

1. The authority citation for part 660 continues to read as follows:

Authority: 16 U.S.C. 1801 et seq.

2. Section 660.704 is revised to read as follows:

§ 660.704 Vessel identification.

(a) General. This section only applies to commercial fishing vessels that fish for HMS off or land HMS in the States of California, Oregon, and Washington. This section does not apply to recreational charter vessels that fish for HMS off or land HMS in the States of California, Oregon, and Washington.

(b) Official number. Each fishing vessel subject to this section must display its official number on the port and starboard sides of the deckhouse or hull, and on an appropriate weather deck so as to be visible from enforcement vessels and aircraft.

(c) Numerals. The official number must be affixed to each vessel subject to this section in block Arabic numerals at least 10 inches (25.40 cm) in height for vessels more than 25 ft (7.62 m) but equal to or less than 65 ft (19.81 m) in length; and 18 inches (45.72 cm)in height for vessels longer than 65 ft (19.81 m) in length. Markings must be legible and of a color that contrasts with the background.

[FR Doc. E7-15227 Filed 8-3-07; 8:45 am]

BILLING CODE 3510-22-S